DEPARTMENT OF ENERGY

Federal Energy Regulatory Commission

[Docket No. IC01-561-000; FERC Form 561]

Proposed Information Collection and Request for Comments

May 2, 2001.

AGENCY: Federal Energy Regulatory Commission, DOE.

ACTION: Notice of proposed information collection and request for comments.

SUMMARY: In compliance with the requirements of Section 3506(c)(2)(a) of the Paperwork Reduction Act of 1995 (Pub. L. 104-13), the Federal Energy Regulatory Commission (Commission) is soliciting public comment on the specific aspects of the information collection described below.

DATES: Consideration will be given to comments submitted on or before July 9, 2001.

ADDRESSES: Copies of the proposed collection of information can be obtained from and written comments may be submitted to the Federal Energy Regulatory Commission, Attn: Michael Miller, Office of the Chief Information Officer, CI-1, 888 First Street NE., Washington DC 20426.

FOR FURTHER INFORMATION CONTACT: Michael Miller may be reached by telephone at (202) 208-1415, by fax at (202) 208-2425, and by e-mail at mike.miller@ferc. fed.us.

SUPPLEMENTARY INFORMATION: The information collected under the requirements of FERC Form 561 “Annual Report of Interlocking Positions” (OMB No. 1902-0099) is used by the Commission to implement the statutory provisions of the Federal Power Act section 305 (FPA) as amended by Title II, Section 211 of the Public Utility Regulatory Policies Act of 1978 (PURPA) (16 U.S.C. 825d). Submission of FERC Form 561 satisfies the FPA section 305(b) and (c) annual reporting requirements for public utility officers and directors to report officer and director positions they hold with financial institutions, insurance companies, utility equipment providers, utility fuel providers, and a utility's top twenty customers of electric energy. FPA section 305(c)(3)(A) defines the public utilities who are required to file. FPA section 305(c)(2) requires that the filed information be made available to the public. FPA section 305(c)(1) requires an annual filing deadline of April 30th. The necessary filing information, the required filers, the requirement to make the information available to the public and the filing deadline are all mandated by the FPA. The Commission is not empowered to amend or waive these statutory requirements. Requirements the Commission has the authority to amend, such as the format of the filing itself and the number of required copies, are found at 18 CFR 46.6 and 131.31.

The Commission has used the information filed in FERC Form 561 for the identification of: (1) Possible interlocking positions where the relationship is employed for the director's own benefit or profit, or for the benefit or profit of any other person or persons and to the detriment of the utility's, or the public interest; (2) the possible existence of control over a large number and geographically widespread public utilities by a small group of individuals; (3) the lack of arm's length dealings between public utilities and organizations furnishing financial services to consumers; and (4) the evasion by means of common control of competition resulting in higher costs and poorer services to consumers.

FERC Form 561 is available in an Excel spreadsheet and requires only updating of the prior year's information. One signed original hard copy and one photocopy are the required submission to the Commission; the electronic file is an optional submission.

Action: The Commission is requesting a three-year extension of the current expiration date, with no changes to the existing collection of information.

Burden Statement: Public reporting burden for this collection is estimated as:

Number of respondents annually | Number of responses per respondent | Average burden hours per response | Total annual burden hours
(1) | (2) | (3) | (1)×(2)×(3)
1,600 | 1 | 0.25 | 400

The estimated total cost to respondents is $22,508. (400 hours divided by 2,088 hours per year per employee times $117,041 per year per average employee=$22,508). The cost per respondent is $14.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; (4) ways to minimize the burden of the collection of information on those who are to respond, including the use of appropriate automated, electronic, mechanical, or other technological collection techniques or other forms of information technology, e.g., permitting electronic submission of responses.

David P. Boergers,
Secretary.

[FR Doc. 01-11490 Filed 5-7-01; 8:45 am]

BILLING CODE 6717-01-M